FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and premerger notification rules. The grants were made by the Federal Trade Commission and the Assistant Attorney General for the Antitrust Division of the Department of Justice. Neither agency intends to take any action with respect to these proposed acquisitions during the applicable waiting period.

Trans # | Acquiring | Acquired | Entities
TRANSACTIONS GRANTED EARLY TERMINATION—02/23/2004
20040346 | Ryder System, Inc | Ruan Financial Corporation | Ruan Leasing Company.
TRANSACTIONS GRANTED EARLY TERMINATION—02/24/2004
20040482 | Citadel Broadcasting Corporation | Albert J. Kaneb | KIX Broadcasting, Inc, KOOL Broadcasting, Inc.
20040492 | Royal Bank of Scotland Group plc | People's Mutual Holdings | People's Bank.
TRANSACTIONS GRANTED EARLY TERMINATION—02/25/2004
20040472 | Weston Presidio Capital IV, L.P | HWH Capital Partners, L.P | NBC Acquisition Corp.
20040497 | Perseus Market Opportunity Fund, L.P | Workflow Management, Inc | Workflow Management, Inc.
TRANSACTIONS GRANTED EARLY TERMINATION—02/26/2004
20040114 | Poydras Street Investors L.L.C | Miller Brands of Phoenix, LLC | Pearce Beverage Company, LLC.
20040431 | Anthem, Inc | WellPoint Health Networks Inc | WellPoint Health Networks Inc.
20040432 | Leonard D. Schaeffer | Anthem, Inc | Anthem, Inc.
20040455 | Poydras Street Investors L.L.C | Zeb Pearce Companies | Pearce Beverage Company, LLC.
20040489 | William A. Goldring | Miller Brands of Phoenix, LLC | Pearce Beverage Company, LLC.
20040490 | William A. Goldring | Zeb Pearce Companies | Pearce Beverage Company, LLC.
TRANSACTIONS GRANTED EARLY TERMINATION—02/27/2004
20040372 | Masonite International Corporation | The Stanley Works | The Stanley Works.
20040498 | ChoicePoint Inc | iMapData.com, Inc | iMapData.com, Inc.
20040510 | Boyd Gaming Corporation | Harrah's Entertainment, Inc | Red River Entertainment of Shreveport Partnership.
20040515 | GTCR Fund VIII, L.P | Bonita Bay Holdings, Inc | Prestige Brands International, Inc.
20040518 | Kennametal Inc | Conforma Clad Inc | Conforma Clad Inc.
20040521 | DaimlerChrysler AG | Mitsubishi Fuso Truck and Bus Corporation | Mitsubishi Fuso Truck and Bus Corporation.
20040522 | California Amplifier, Inc | Vytek Corporation | Vytek Corporation.
TRANSACTIONS GRANTED EARLY TERMINATION—03/02/2004
20040463 | Capital Environmental Resource Inc | Florida Recycling Services, Inc., an Illinois corporation | Florida Recycling Services, Inc., an Illinois corporation.
20040483 | Connetics Corporation | Fritz Gerber | Hoffman-La Roche Inc.
20040516 | Nexfor Inc | MeadWestvaco Corporation | Northwood Panelboard Company.
20040520 | Yucaipa Corporate Initiatives Fund I, L.P | Piccadilly Cafeterias, Inc | Piccadilly Cafeterias, Inc.
TRANSACTIONS GRANTED EARLY TERMINATION—03/04/2004
20040466 | Lap Shun (John) Hui | Gateway, Inc | Gateway, Inc.
20040467 | Gateway, Inc | Lap Shun (John) Hui | EM Holdings, Inc.
20040502 | Dycom Industries, Inc | The Berwind Company LLC | Prince Telecom Holdings, Inc.
20040504 | Fenway Partners Capital Fund II, L.P | Castle Harlan Partners III, L.P | American Achievement Corporation.
20040507 | Mitsui & Co., Ltd | Roger S. Penske | United Auto Group, Inc.
TRANSACTIONS GRANTED EARLY TERMINATION—03/05/2004
20040473 | JP Morgan Chase & Co | Bank One Corporation | Bank One Corporation.
20040524 | J.W. Childs Equity Partners III, L.P | RCS MediaGroup S.p.A | Edera Inc., J A Apparel Corp., Nashawena Mills Corp., Riverside Manufacturing Corp.
20040544 | MBNA Corporation | Sky Financial Group, Inc | Sky Financial Solutions, Inc.
TRANSACTIONS GRANTED EARLY TERMINATION—03/08/2004
20040491 | American International Group, Inc | El Paso Corporation | Bonneville Pacific Corporation, Cambria Clean Coal, LLC, Dartmouth Power Holding Company, LLC, Vandolah Holding Company, LLC.
20040513 | Swiss Reinsurance Company | Loews Corporation | CNA International Life Corp., Continental Assurance Company.
20040514 | I-trax, Inc | Meridian Occupational Healthcare Associates, Inc | Meridian Occupational Healthcare Associates, Inc.
20040530 | Dow Jones & Company, Inc | Wicks Communications & Media Partners, L.P | VentureOne Corporation, Wicks Business Information, LLC.
20040532 | General Catalyst Group III, L.P | Verizon Communications Inc | BBNT Solutions LLC.
20040535 | Port Blakely Tree Farms (Limited Partnership) | President and Fellows of Harvard College | Rainier Mineral Company LLC, Rainier Timber Company, LLC.
20040538 | GENESCO Inc. | Hat World Corporation | Hat World Corporation.
20040541 | CIENA Corporation | Catena Networks, Inc | Catena Networks, Inc.
20040547 | Curative Health Services, Inc | Thoma Cressey Fund VII, L.P | Critical Care Systems, Inc.
20040549 | Tekelec | Taqua, Inc | Taqua, Inc.
20040555 | GTCR Fund VII, L.P | Fifth Third Bancorp | Fifth Third Bank.
20040568 | KRG Capital Fund II, L.P | FleetBoston Financial Corporation | Interior Specialists, Inc.
TRANSACTIONS GRANTED EARLY TERMINATION—03/09/2004
20040480 | Fidelity National Financial, Inc | Willis Stein & Partners, II, L.P | Aurum Technology Inc.
20040481 | Willis Stein & Partners, II, L.P | Fidelity National Financial, Inc | Fidelity National Financial, Inc.
20040546 | Neurocrine Biosciences, Inc | Wyeth | Wyeth Holdings Corporation.
TRANSACTIONS GRANTED EARLY TERMINATION—03/10/2004
20040551 | CIENA Corporation | Sprout Capital IX, L.P | Internet Photonics, Inc.
TRANSACTIONS GRANTED EARLY TERMINATION—03/11/2004
20040495 | Rent-A-Center, Inc | Rainbow Rentals, Inc | Rainbow Rentals, Inc.
20040536 | Merck & Co., Inc | Aton Pharma, Inc | Aton Pharma, Inc.
20040552 | Calpine Corporation | Brazosvalley SP LP LLC | Brazos Valley Energy LP, Brazos Valley Special Purpose GP Ltd. Partnership, Brazos Valley Special Purpose LP Ltd. Partnership, Brazos Valley Technology LP.
20040554 | BlueScope Steel Limited | Butler Manufacturing Company | Butler Manufacturing Company.
20040559 | Aurora Equity Partners II L.P | AK Steel Holding Corporation | Douglas Dynamics, L.L.C.
TRANSACTIONS GRANTED EARLY TERMINATION—03/12/2004
20040540 | Ariba, Inc | FreeMarkets, Inc | FreeMarkets, Inc.
20040567 | The Amex Membership Corporation | National Association of Securities Dealers, Inc | American Stock Exchange, LLC.
20040570 | Freedom Communications, Inc | Freedom Communications, Inc | Freedom Newspapers, Lima News.
20040583 | Global Private Equity IV, LP | Long Term Holdings, Inc | Long Term Holdings, Inc.
20040595 | Adelphia Business Solutions, Inc. dba TelCove | Adelphia Communications Corporation (debtor in possession) | ACC Telecommunications, LLC, ACC Telecommunications of Virginia, LLC, Adelphia Cable Partners, L.P., Adelphia Cablevision, LLC, Adelphia Cablevision of New York, Inc., Adelphia Cablevision of West Palm Beach IV, LLC, Adelphia California Cablevision, LLC, Adelphia Central Pennsylvania, LLC, Better TV, Inc. of Bennington, Chelsea Communications, LLC, FrontierVision Access Partners, LLC, Lake Champlain Cable Television Corporation, Mountain Cable Company, LP, Multi-Channel TV Cable Company; Grand Island Cable, Inc., Scranton Cablevision, Inc., Southeast Florida Cable, Inc., Telesat Acquisition, LLC, UCA, LLC, Young's Cable TV Corporation.
20040596 | Group 1 Automotive, Inc | Mr. Charles G. Peterson | FLT, Inc., Folsom Lake Used Car Outlet, Inc., Rancho Imports, RMH, LLC.
TRANSACTIONS GRANTED EARLY TERMINATION—03/16/2004
20040500 | Gerald W. Schwartz | General Electric Company | LAC Holding Corp.
20040501 | Juniper Networks, Inc | NetScreen Technologies, Inc | NetScreen Technologies, Inc.
20040537 | Hewlett-Packard Company | Novadigm, Inc | Novadigm, Inc.
20040542 | Fisher Scientific International Inc | Dr. Stephen A. Scaringe | Dharmacon, Inc.
20040594 | Thomas Weisel Capital Partners, L.P | Trover Solutions, Inc | Trover Solutions, Inc.
TRANSACTIONS GRANTED EARLY TERMINATION—03/17/2004
20040586 | Boyd Gaming Corporation | Coast Casinos, Inc | Coast Casinos, Inc.
TRANSACTIONS GRANTED EARLY TERMINATION—03/18/2004
20040572 | Cytyc Corporation | Novacept | Novacept.
20040573 | DigitalNet Holdings, Inc | Yong K. Kim | User Technology Associates, Inc.
20040577 | CapitalSource, Inc | Security Leasing Partners, L.P | Security Leasing Partners, L.P.
20040584 | Michael J. Gaughan | Boyd Gaming Corporation | Boyd Gaming Corporation.
20040585 | Franklin Toti | Boyd Gaming Corporation | Boyd Gaming Corporation.
TRANSACTIONS GRANTED EARLY TERMINATION—03/19/2004
20040519 | Cable Design Technologies Corporation | Belden, Inc | Belden Inc.
20040576 | Charles W. Ergen | Gemstar-TV Guide International, Inc | SpaceCom Systems, Inc., Superstar/Netlink Group LLC, Telluride Cablevision, Inc., United Video TV, Inc., UV Corp., UVTV-A, Inc., UVTV-X, Inc.
20040587 | PP Acquisition Corporation | Golder, Thoma Cressey Fund III, L.P | Polypore, Inc.
20040593 | Lightbridge, Inc | InfoSpace, Inc | Authorize.Net Corporation.
20040598 | Temasek Holdings (Private) Limited | ChipPAC, Inc | ChipPAC, Inc.
20040599 | Warburg Pincus Private Equity VIII, L.P | ConocoPhillips | ConocoPhillips Company.
20040600 | Robin J. Hardie | Freedom Communications, Inc | Freedom Communications, Inc.
20040601 | KKR Millennium Fund LP | UniSource Energy Corporation | UniSource Energy Corporation.
20040606 | Fidelity National Financial, Inc | Fidelity National Financial, Inc | Hansen Quality, LLC.
20040607 | Thomas H. Lee Equity Fund IV, L.P | The Nu-Gro Corporation | The Nu-Gro Corporation.
20040617 | MemberWorks Incorporated | Lavalife Inc | Lavalife Inc.
20040619 | Ask Jeeves, Inc | Interactive Search Holdings, Inc | Interactive Search Holdings, Inc.
20040622 | Threshie Limited Partnership | Freedom Communications, Inc | Freedom Communications, Inc.
20040623 | Sun Microsystems, Inc | Andreas Bechtolsheim | Kealia, Inc.
20040624 | NdTV Holdings, LLC | Vivendi Universal, S.A | NWI Cable, Inc., NWI Direct, Inc., NWI Network, Inc., NWI Television, Inc., NWI Vision, Inc., Universal Television Network.
TRANSACTIONS GRANTED EARLY TERMINATION—03/22/2004
20040566 | Yell Group PLC | Roberta Feist | Feist Publications, Inc.
20040581 | KKR Millennium Fund L.P | Sealy Corporation | Sealy Corporation.
20040588 | American Capital Strategies, Ltd | Sentinel Capital Partners II, L.P | Cottman Transmission Systems, LLC.
20040603 | Atlantic Equity Partners III, L.P | Genstar Capital, ULC | Prestolite Electric Holding, Inc.
20040615 | Koch Industries, Inc | Georgia-Pacific Corporation | Brunswick Pulp & Paper Company, Scott Timber Company, Georgia-Pacific Asia (Hong Kong), Georgia-Pacific GmbH, Leaf River Forest Products, Inc., LRC Timber, Inc., Old Agusta Railroad Company.
20040618 | CGI Group Inc | American Management Systems, Incorporated | American Management Systems, Incorporated.
20040626 | C/R BPL Investment Partnership II, L.P | Glenmoor, Ltd | Glenmoor, Ltd.
TRANSACTIONS GRANTED EARLY TERMINATION—03/23/2004
20040627 | International Business Machines Corp | Trigo Technologies, Inc | Trigo Technologies, Inc.
TRANSACTIONS GRANTED EARLY TERMINATION—03/24/2004
20040582 | Gryphon Partners II, L.P | Jack C. Priegel | Autotronic Controls Corporation.
TRANSACTIONS GRANTED EARLY TERMINATION—03/26/2004
20040448 | Dental Service of Massachusetts, Inc | MOA Investments, LLC | Doral Dental USA, LLC.
20040561 | Mayne Group Limited | AAIPharma Inc | aaiPharma LLC and AAI Properties, Inc.
20040602 | Heroux-Devtek Inc | Guinn Dale Crousen | Progressive Incorporated, Promilling, L.P.
20040625 | Duke Energy Corporation | ConocoPhillips | ConocoPhillips Company.
20040644 | Intersil Corporation | Xicor, Inc | Xicor, Inc.

FOR FURTHER INFORMATION CONTACT:

Sandra M. Peay, Contact Representative

or

Renee Hallman, Legal Technician

Federal Trade Commission, Premerger Notification Office, Bureau of Competition, Room H-303, Washington, DC 20580, (202) 326-3100.

By Direction of the Commission.
Donald S. Clark,
Secretary.

[FR Doc. 04-8089 Filed 4-8-04; 8:45 am]

BILLING CODE 6750-01-M